OFFICE OF PERSONNEL MANAGEMENT

Notice of Extension of Federal Long Term Care Insurance Program Special Decision Period for Current Enrollees

AGENCY: U.S. Office of Personnel Management.

ACTION: Notice of extension of federal long term care insurance program special decision period for current enrollees.

SUMMARY: The U.S. Office of Personnel Management (OPM) is announcing an extension of the limited Special Decision Period for current enrollees in the Federal Long Term Care Insurance Program (FLTCIP) who have the automatic compound inflation option. The initial deadline for changes under the Special Decision Period was December 14, 2009. It has been extended through February 15, 2010 for some enrollees with automatic compound inflation and through March 15, 2010 for other enrollees who are being individually notified by mail of the extension of their Special Decision Period. Both sets of enrollees are subject to premium increases if they retain their current coverage. Abbreviated underwriting requirements have also been extended. The effective date of premium increases for automatic compound inflation option enrollees has been extended from January 1, 2010 to March 1, 2010.

DATES: The Special Decision Period for FLTCIP enrollees with the automatic compound inflation option began October 1, 2009 and has been extended through February 15, 2010 for some enrollees and through March 15, 2010 for other enrollees. The latter group will be individually notified by mail regarding an error in the initial information packet they received from Long Term Care Partners pertaining to premium changes and available options. They are being provided a second information packet and additional time to make their decisions. The effective date of premium increases for enrollees with the automatic compound inflation option has been extended from January 1, 2010 to March 1, 2010. There are no changes to the Special Decision Period and effective dates for enrollees with the future purchase option.

FOR FURTHER INFORMATION CONTACT: Enrollees may call 1-800-LTC-FEDS (1-800-582-3337) (TTY: 1-800-843-3557) or visit www.ltcfeds.com. For purposes of this Federal Register notice only, the contact at OPM is John Cutler, Senior Policy Analyst, Strategic Human Resources Policy Division, at john.cutler@opm.gov or (202) 606-0004.

SUPPLEMENTARY INFORMATION: On October 1, 2009, OPM published a Federal Register Notice announcing a limited Special Decision Period for current enrollees in the Federal Employees Long Term Care Insurance Program. That notice may be found at 74 FR 50845: http://edocket.access.gpo.gov/2009/pdf/E9-23727.pdf.

The limited Special Decision Period is solely for current enrollees. Provisions in the October 1, 2009 Federal Register notice pertaining to underwriting, billing age, and premiums (other than the changes noted below) remain the same, as do other provisions in that Notice. For example, enrollees who make coverage changes outside of the Special Decision Period may be subject to full underwriting, as specified in § 875.403, and different premium calculation rules.

Underwriting requirements: Underwriting requirements remain unchanged, except that for a special decision period coverage change to become effective, the active workforce member must be actively at work at least one day during the calendar month immediately before the coverage effective date. For example, for an effective date of March 1, 2010, the active workforce member must be actively at work at least one day during the month of February 2010.

Effective date of changes to premium: The effective date of premium increases for enrollees with the automatic compound inflation option will be March 1, 2010, or the first day of the month following approval of the request, whichever is later. However, if coverage changes result in a premium decrease, the premium decrease will be effective January 1, 2010. Billing will be adjusted retroactively as needed for coverage decreases requested after January 1, 2010.

For enrollees with the future purchase option who choose to accept the regular biennial future purchase option offer or to change their coverage, the effective date of any changes remains January 1, 2010.

Effective date of changes to coverage: The effective dates of coverage changes specified in the Federal Register notice issued October 1, 2009 remain unchanged. Coverage changes that do not require underwriting will be effective January 1, 2010, regardless of when the enrollee submits the Special Decision Period request. Coverage changes requiring underwriting will be effective January 1, 2010, or the first day of the month following approval of the request, whichever is later.

Authority: 5 U.S.C. 9008; 5 CFR 875.402.

Office of Personnel Management.
John Berry,
Director.

[FR Doc. E9-29359 Filed 12-8-09; 8:45 am]

BILLING CODE 6325-39-P